SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: April 1 through December 31, 2013.

ADDRESSES: Susquehanna River Basin Commission, 4423 North Front Street, Harrisburg, PA 17110-1788.

FOR FURTHER INFORMATION CONTACT: Richard A. Cairo, General Counsel, telephone: (717) 238-0423, ext. 1306; fax: (717) 238-2436; email: rcairo@srbc.net. Regular mail inquiries may be sent to the above address.

SUPPLEMENTARY INFORMATION: This notice lists the projects, described below, receiving approval for the consumptive use of water pursuant to the Commission's approval by rule process set forth in 18 CFR 806.22(e) and (f) for the time period specified above:

Approvals By Rule Issued Under 18 CFR 806.22(e)

1. Albemarle Corporation, Tyrone, PA Plant, ABR-201304008, Tyrone Borough, Blair County, Pa.; Consumptive Use of Up to 0.095 mgd; Approval Date: April 9, 2013.

2. Marcellus GTL, LLC, Altoona Plant, ABR-201307005, Blair Township, Blair County, PA.; Approval Date: July 16, 2013.

Approvals By Rule Issued Under 18 CFR 806.22(f)

1. Chesapeake Appalachia, LLC, Pad ID: McEnaney, ABR-201304001, Terry Township, Bradford County, Pa.; Consumptive Use of Up to 7.500 mgd; Approval Date: April 2, 2013.

2. Campbell Oil and Gas, Inc., Pad ID: Mid Penn Unit A Well Pad, ABR-201304002, Bigler Township, Clearfield County, Pa.; Consumptive Use of Up to 2.000 mgd; Approval Date: April 2, 2013.

3. Southwestern Energy Production Company, Pad ID: McMahon (VW Pad), ABR-201304003, Stevens Township, Bradford County, Pa.; Consumptive Use of Up to 4.999 mgd; Approval Date: April 2, 2013.

4. Chesapeake Appalachia, LLC, Pad ID: Sharpe, ABR-201304004, Windham Township, Wyoming County, Pa.; Consumptive Use of Up to 7.500 mgd; Approval Date: April 5, 2013.

5. Cabot Oil & Gas Corporation, Pad ID: PritchardD P1, ABR-201304005, Harford Township, Susquehanna County, Pa.; Consumptive Use of Up to 3.575 mgd; Approval Date: April 5, 2013.

6. Pennsylvania General Energy Company, LLC, Pad ID: COP Tract 322 Pad C, ABR-201304006, Cummings Township, Lycoming County, Pa.; Consumptive Use of Up to 3.500 mgd; Approval Date: April 5, 2013.

7. Pennsylvania General Energy Company, LLC, Pad ID: COP Tract 596 Pad B, ABR-201304007, Liberty Township, Tioga County, Pa.; Consumptive Use of Up to 3.500 mgd; Approval Date: April 5, 2013.

8. Southwestern Energy Production Company, Pad ID: Martin (Pad 11), ABR-201304009, Standing Stone Township, Bradford County, Pa.; Consumptive Use of Up to 4.999 mgd; Approval Date: April 15, 2013.

9. Southwestern Energy Production Company, Pad ID: Ferguson-Keisling (Pad B), ABR-201304010, Herrick Township, Bradford County, Pa.; Consumptive Use of Up to 4.999 mgd; Approval Date: April 15, 2013.

10. Southwestern Energy Production Company, Pad ID: Tice (13 Pad), ABR-201304011, Orwell Township, Bradford County, Pa.; Consumptive Use of Up to 4.999 mgd; Approval Date: April 15, 2013.

11. Southwestern Energy Production Company, Pad ID: MITCHELL NORTH 7/MITCHELL SOUTH 23, ABR-201304012, New Milford Township, Susquehanna County, Pa.; Consumptive Use of Up to 4.999 mgd; Approval Date: April 15, 2013.

12. Seneca Resources, Pad ID: D.C.NR 100 Pad R, ABR-201304013, Lewis Township, Lycoming County, Pa.; Consumptive Use of Up to 4.000 mgd; Approval Date: April 15, 2013.

13. SWEPI LP, Pad ID: Flack 502, ABR-201304014, Sullivan Township, Tioga County, Pa.; Consumptive Use of Up to 4.000 mgd; Approval Date: April 19, 2013.

14. Chesapeake Appalachia, LLC, Pad ID: Lucy, ABR-201304015, Monroe Township, Bradford County, Pa.; Consumptive Use of Up to 7.500 mgd; Approval Date: April 19, 2013.

15. Chesapeake Appalachia, LLC, Pad ID: Wittig, ABR-201304016, Franklin Township, Bradford County, Pa.; Consumptive Use of Up to 7.500 mgd; Approval Date: April 22, 2013.

16. Chesapeake Appalachia, LLC, Pad ID: Poepperling, ABR-201304017, North Branch Township, Wyoming County, Pa.; Consumptive Use of Up to 7.500 mgd; Approval Date: April 22, 2013.

17. SWEPI LP, Pad ID: Edkin 499, ABR-201304018, Sullivan Township, Tioga County, Pa.; Consumptive Use of Up to 4.000 mgd; Approval Date: April 24, 2013.

18. Chief Oil & Gas LLC, Pad ID: P. Cullen A Drilling Pad, ABR-201304019, Overton Township, Bradford County, Pa.; Consumptive Use of Up to 2.000 mgd; Approval Date: April 26, 2013.

19. Chief Oil & Gas LLC, Pad ID: Inderlied Drilling Pad, ABR-201304020, Lathrop Township, Susquehanna County, Pa.; Consumptive Use of Up to 2.000 mgd; Approval Date: April 30, 2013.

20. Chesapeake Appalachia, LLC, Pad ID: Hooker, ABR-201305001, Auburn Township, Susquehanna County, Pa.; Consumptive Use of Up to 7.500 mgd; Approval Date: May 7, 2013.

21. Chesapeake Appalachia, LLC, Pad ID: Visneski, ABR-201305002, Mehoopany Township, Wyoming County, Pa.; Consumptive Use of Up to 7.500 mgd; Approval Date: May 7, 2013.

22. Atlas Resources, LLC, Pad ID: Stubler Pad A, ABR-201305003, Gamble Township, Lycoming County, Pa.; Consumptive Use of Up to 4.000 mgd; Approval Date: May 13, 2013.

23. Carrizo (Marcellus), LLC, Pad ID: Plushanski Pad, ABR-201305004, Lemon Township, Wyoming County, Pa.; Consumptive Use of Up to 2.100 mgd; Approval Date: May 13, 2013.

24. Cabot Oil & Gas Corporation, Pad ID: Thomas R P1, ABR-201305005, Lenox Township, Susquehanna County, Pa.; Consumptive Use of Up to 3.575 mgd; Approval Date: May 13, 2013.

25. Chesapeake Appalachia, LLC, Pad ID: ODowd, ABR-201305006, Auburn Township, Susquehanna County, Pa.; Consumptive Use of Up to 7.500 mgd; Approval Date: May 13, 2013.

26. Chesapeake Appalachia, LLC, Pad ID: Walters, ABR-201305007, Mehoopany Township, Wyoming County, Pa.; Consumptive Use of Up to 7.500 mgd; Approval Date: May 13, 2013.

27. Chief Oil & Gas LLC, Pad ID: Runabuck Drilling Pad, ABR-201305008, Elkland Township, Sullivan County, Pa.; Consumptive Use of Up to 2.000 mgd; Approval Date: May 15, 2013.

28. Talisman Energy USA Inc., Pad ID: 07-022 Repine T, ABR-201305009, Apolacon Township, Susquehanna County, Pa.; Consumptive Use of Up to 6.000 mgd; Approval Date: May 21, 2013.

29. Talisman Energy USA Inc., Pad ID: 07-017 Kropp C, ABR-201305010, Apolacon Township, Susquehanna County, Pa.; Consumptive Use of Up to 6.000 mgd; Approval Date: May 21, 2013.

30. Talisman Energy USA Inc., Pad ID: 07-010 Taylor Buckhorn Land Co., ABR-201305011, Apolacon Township, Susquehanna County, Pa.; Consumptive Use of Up to 6.000 mgd; Approval Date: May 21, 2013.

31. Talisman Energy USA Inc., Pad ID: 07-043 Schmitt D, ABR-201305012, Apolacon Township, Susquehanna County, Pa.; Consumptive Use of Up to 6.000 mgd; Approval Date: May 21, 2013.

32. Cabot Oil & Gas Corporation, Pad ID: Bishop B P1, ABR-201305013, Springville Township, Susquehanna County, Pa.; Consumptive Use of Up to 3.57 mgd; Approval Date: May 29, 2013.

33. Cabot Oil & Gas Corporation, Pad ID: Huston J P1, ABR-201305014, Brooklyn Township, Susquehanna County, Pa.; Consumptive Use of Up to 3.575 mgd; Approval Date: May 29, 2013.

34. Cabot Oil & Gas Corporation, Pad ID: Housel R P1, ABR-201305015, Lenox Township, Susquehanna County, Pa.; Consumptive Use of Up to 3.575 mgd; Approval Date: May 29, 2013.

35. EXCO Resources (PA), LLC, Pad ID: Chaapel Hollow Unit, ABR-201305016, Gamble Township, Lycoming County, Pa.; Consumptive Use of Up to 8.000 mgd; Approval Date: May 31, 2013.

36. Cabot Oil & Gas Corporation, Pad ID: Gillingham R P1, ABR-201305017, Forest Lake Township, Susquehanna County, Pa.; Consumptive Use of Up to 3.575 mgd; Approval Date: May 31, 2013.

37. Chesapeake Appalachia, LLC, Pad ID: Porter, ABR-201306001, North Branch Township, Wyoming County, Pa.; Consumptive Use of Up to 7.500 mgd; Approval Date: June 10, 2013.

38. Chesapeake Appalachia, LLC, Pad ID: Tinna, ABR-201306002, Windham and Mehoopany Townships, Wyoming County, Pa.; Consumptive Use of Up to 7.500 mgd; Approval Date: June 10, 2013.

39. Chesapeake Appalachia, LLC, Pad ID: Shamrock, ABR-201306003, Windham Township, Wyoming County, Pa.; Consumptive Use of Up to 7.500 mgd; Approval Date: June 10, 2013.

40. Range Resources—Appalachia, LLC, Pad ID: Laurel Hill B Unit, ABR-201306004, Jackson Township, Lycoming County, Pa.; Consumptive Use of Up to 7.500 mgd; Approval Date: June 11, 2013.

41. Talisman Energy USA Inc., Pad ID: 07-080 Thorne G, ABR-201306005, Apolacon Township, Susquehanna County, Pa.; Consumptive Use of Up to 6.000 mgd; Approval Date: June 17, 2013.

42. Talisman Energy USA Inc., Pad ID: 07-081 Traver E, ABR-201306006, Choconut Township, Susquehanna County, Pa.; Consumptive Use of Up to 6.000 mgd; Approval Date: June 17, 2013.

43. Chesapeake Appalachia, LLC, Pad ID: Brewer, ABR-201306007, Meshoppen and Washington Townships, Wyoming County, Pa.; Consumptive Use of Up to 7.500 mgd; Approval Date: June 17, 2013.

44. Cabot Oil & Gas Corporation, Pad ID: ReynoldsR P1, ABR-201306008, Jessup Township, Susquehanna County, Pa.; Consumptive Use of Up to 3.575 mgd; Approval Date: June 19, 2013.

45. Cabot Oil & Gas Corporation, Pad ID: StarzecE P1, ABR-201306009, Bridgewater Township, Susquehanna County, Pa.; Consumptive Use of Up to 3.575 mgd; Approval Date: June 19, 2013.

46. Chief Oil & Gas LLC, Pad ID: Spencer Drilling Pad, ABR-201306010, Lenox Township, Susquehanna County, Pa.; Consumptive Use of Up to 2.000 mgd; Approval Date: June 26, 2013.

47. Southwestern Energy Production Company, Pad ID: Heckman Camp (Pad F), ABR-201307001, Herrick Township, Bradford County, Pa.; Consumptive Use of Up to 4.999 mgd; Approval Date: July 9, 2013.

48. Southwestern Energy Production Company, Pad ID: TNT LTD PART WEST, ABR-201307002, New Milford Township, Susquehanna County, Pa.; Consumptive Use of Up to 4.999 mgd; Approval Date: July 9, 2013.

49. Southwestern Energy Production Company, Pad ID: Whipple (Pad 14), ABR-201307003, Herrick Township, Bradford County, Pa.; Consumptive Use of Up to 4.999 mgd; Approval Date: July 12, 2013.

50. Southwestern Energy Production Company, Pad ID: King N (Pad NW., 1), ABR-201307004, Franklin Township, Susquehanna County, Pa.; Consumptive Use of Up to 4.999 mgd; Approval Date: July 15, 2013.

51. Atlas Resources, LLC, Pad ID: Stubler Pad B, ABR-201307006, Gamble Township, Lycoming County, Pa.; Consumptive Use of Up to 4.000 mgd; Approval Date: July 17, 2013.

52. Cabot Oil & Gas Corporation, Pad ID: Biniewicz S P1, ABR-201308001, Gibson Township, Susquehanna County, Pa.; Consumptive Use of Up to 3.575 mgd; Approval Date: August 9, 2013.

53. Pennsylvania General Energy Company, LLC, Pad ID: COP Tract 322 Pad E, ABR-201308002, Cummings Township, Lycoming County, Pa.; Consumptive Use of Up to 3.500 mgd; Approval Date: August 12, 2013.

54. Cabot Oil & Gas Corporation, Pad ID: Keeves J P1, ABR-201308003, Brooklyn Township, Susquehanna County, Pa.; Consumptive Use of Up to 3.575 mgd; Approval Date: August 12, 2013.

55. Pennsylvania General Energy Company, LLC, Pad ID: SGL75 Pad B, ABR-201308004, McHenry Township, Lycoming County, Pa.; Consumptive Use of Up to 3.500 mgd; Approval Date: August 13, 2013.

56. Pennsylvania General Energy Company, LLC, Pad ID: SGL75 Pad C, ABR-201308005, McHenry Township, Lycoming County, Pa.; Consumptive Use of Up to 3.500 mgd; Approval Date: August 13, 2013.

57. Pennsylvania General Energy Company, LLC, Pad ID: SGL75 Pad D, ABR-201308006, Pine Township, Lycoming County, Pa.; Consumptive Use of Up to 3.500 mgd; Approval Date: August 13, 2013.

58. Anadarko E&P Onshore LLC, Pad ID: Larry's Creek F&G Pad G, ABR-201308007, Mifflin Township, Lycoming County, Pa.; Consumptive Use of Up to 4.000 mgd; Approval Date: August 14, 2013.

59. Cabot Oil & Gas Corporation, Pad ID: Bennett C P1, ABR-201308008, Jessup Township, Susquehanna County, Pa.; Consumptive Use of Up to 3.575 mgd; Approval Date: August 14, 2013.

60. Cabot Oil & Gas Corporation, Pad ID: Marcho W&M P1, ABR-201308009, Gibson Township, Susquehanna County, Pa.; Consumptive Use of Up to 3.575 mgd; Approval Date: August 16, 2013.

61. Range Resources—Appalachia, LLC, Pad ID: Laurel Hill 9H-11H, ABR-201308010, Cogan House Township, Lycoming County, Pa.; Consumptive Use of Up to 5.000 mgd; Approval Date: August 16, 2013.

62. Range Resources—Appalachia, LLC, Pad ID: Dog Run HC Unit 4H-6H, ABR-201308011, Cummings Township, Lycoming County, Pa.; Consumptive Use of Up to 5.000 mgd; Approval Date: August 16, 2013.

63. Range Resources—Appalachia, LLC, Pad ID: Laurel Hill 1H-8H, ABR-201308012, Cogan House Township, Lycoming County, Pa.; Consumptive Use of Up to 5.000 mgd; Approval Date: August 16, 2013.

64. Cabot Oil & Gas Corporation, Pad ID: Mead B P1, ABR-201308013, Bridgewater Township, Susquehanna County, Pa.; Consumptive Use of Up to 3.575 mgd; Approval Date: August 20, 2013.

65. Cabot Oil & Gas Corporation, Pad ID: Payne D P1, ABR-201308014, Harford Township, Susquehanna County, Pa.; Consumptive Use of Up to 3.575 mgd; Approval Date: August 20, 2013.

66. Inflection Energy LLC, Pad ID: Bennett Well Pad, ABR-201308015, Eldred Township, Lycoming County, Pa.; Consumptive Use of Up to 4.000 mgd; Approval Date: August 26, 2013.

67. Southwestern Energy Production Company, Pad ID: Dropp-Range-Pad46, ABR-201308016, Jackson Township, Susquehanna County, Pa.; Consumptive Use of Up to 4.999 mgd; Approval Date: August 30, 2013.

68. Inflection Energy LLC, Pad ID: Hillegas Well Pad, ABR-201308017, Upper Fairfield Township, Lycoming County, Pa.; Consumptive Use of Up to 4.000 mgd; Approval Date: August 30, 2013.

69. Southwestern Energy Production Company, Pad ID: Whipple (Pad 4), ABR-201309001, Herrick Township, Bradford County, Pa.; Consumptive Use of Up to 4.999 mgd; Approval Date: September 6, 2013.

70. Talisman Energy USA Inc., Pad ID: 07 075 Murphy D, ABR-201309002, Apolacon Township, Susquehanna County, Pa.; Consumptive Use of Up to 6.000 mgd; Approval Date: September 6, 2013.

71. Talisman Energy USA Inc., Pad ID: 07 086 Butler J, ABR-201309003, Apolacon Township, Susquehanna County, Pa.; Consumptive Use of Up to 6.000 mgd; Approval Date: September 6, 2013.

72. Talisman Energy USA Inc., Pad ID: 07 021 Shea D, ABR-201309004, Choconut Township, Susquehanna County, Pa.; Consumptive Use of Up to 6.000 mgd; Approval Date: September 6, 2013.

73. Talisman Energy USA Inc., Pad ID: 07 083 Olympic Lake Estates, ABR-201309005, Apolacon Township, Susquehanna County, Pa.; Consumptive Use of Up to 6.000 mgd; Approval Date: September 6, 2013.

74. EXCO Resources (PA), LLC, Pad ID: Cadwalader Pad 2A, ABR-201309006, Cogan House Township, Lycoming County, Pa.; Consumptive Use of Up to 8.000 mgd; Approval Date: September 11, 2013.

75. EXCO Resources (PA), LLC, Pad ID: Poor Shot Pad 2 Unit, ABR-201309007, Anthony Township, Lycoming County, Pa.; Consumptive Use of Up to 8.000 mgd; Approval Date: September 11, 2013.

76. SWEPI, LP, Pad ID: Bradford 481, ABR-201309008, Sullivan Township, Tioga County, Pa.; Consumptive Use of Up to 4.000 mgd; Approval Date: September 16, 2013.

77. Chief Oil & Gas LLC, Pad ID: Lathrop Farm Trust B Drilling Pad, ABR-201309009, Auburn Township, Susquehanna County, Pa.; Consumptive Use of Up to 2.000 mgd; Approval Date: September 17, 2013.

78. EXCO Resources (PA), LLC, Pad ID: Cadwalader Pad 3, ABR-201309010, Cogan House Township, Lycoming County, Pa.; Consumptive Use of Up to 8.000 mgd; Approval Date: September 17, 2013.

79. Cabot Oil & Gas Corporation, Pad ID: GrosvenorP P1, ABR-201309011, Brooklyn Township, Susquehanna County, Pa.; Consumptive Use of Up to 4.250 mgd; Approval Date: September 24, 2013.

80. Cabot Oil & Gas Corporation, Pad ID: StoddardT P1, ABR-201309012, Lenox Township, Susquehanna County, Pa.; Consumptive Use of Up to 4.250 mgd; Approval Date: September 24, 2013.

81. Anadarko E&P Onshore, LLC, Pad ID: Elbow F&G Pad D, ABR-201309013, Cogan House Township, Lycoming County, Pa.; Consumptive Use of Up to 4.000 mgd; Approval Date: September 24, 2013.

82. Anadarko E&P Onshore, LLC, Pad ID: Kenmar HC Pad A, ABR-201309014, Cogan House Township, Lycoming County, Pa.; Consumptive Use of Up to 4.000 mgd; Approval Date: September 27, 2013.

83. Anadarko E&P Onshore, LLC, Pad ID: Lycoming H&FC Pad F, ABR-201309015, Cogan House Township, Lycoming County, Pa.; Consumptive Use of Up to 4.000 mgd; Approval Date: September 27, 2013.

84. Chesapeake Appalachia, LLC, Pad ID: Kintner, ABR-201309016, Wilmot Township, Bradford County, Pa.; Consumptive Use of Up to 7.500 mgd; Approval Date: September 27, 2013.

85. Chesapeake Appalachia, LLC, Pad ID: Parkhurst, ABR-201309017, Auburn Township, Susquehanna County, Pa.; Consumptive Use of Up to 7.500 mgd; Approval Date: September 30, 2013.

86. Seneca Resources Corporation, Pad ID: Gamble Pad K, ABR-201309018, Lewis Township, Lycoming County, Pa.; Consumptive Use of Up to 4.000 mgd; Approval Date: September 30, 2013.

87. SWEPI LP, Pad ID: Sherman 492W, ABR-201310001, Sullivan Township, Tioga County, Pa.; Consumptive Use of Up to 4.000 mgd; Approval Date: October 2, 2013.

88. Southwestern Energy Production Company, Pad ID: Salt Lick Hunting Club-Range-Pad59, ABR-201310002, New Milford Township, Susquehanna County, Pa.; Consumptive Use of Up to 4.999 mgd; Approval Date: October 7, 2013.

89. Southwestern Energy Production Company, Pad ID: Heckman Hiduk (Pad GS), ABR-201310003, Herrick and Stevens Townships, Bradford County, Pa.; Consumptive Use of Up to 4.999 mgd; Approval Date: October 7, 2013.

90. Chesapeake Appalachia, LLC, Pad ID: Ferris, ABR-201310004, Braintrim Townships, Wyoming County, Pa.; Consumptive Use of Up to 7.500 mgd; Approval Date: October 21, 2013.

91. Chief Oil & Gas LLC, Pad ID: Loch Drilling Pad, ABR-201311001, Nicholson Township, Wyoming County, Pa.; Consumptive Use of Up to 2.000 mgd; Approval Date: November 5, 2013.

92. Cabot Oil & Gas Corporation, Pad ID: FoltzJ P1, ABR-201311002, Springville Township, Susquehanna County, Pa.; Consumptive Use of Up to 4.250 mgd; Approval Date: November 5, 2013.

93. Chief Oil & Gas LLC, Pad ID: Kupscznk D Drilling Pad, ABR-201311003, Springville Township, Susquehanna County, Pa.; Consumptive Use of Up to 2.000 mgd; Approval Date: November 5, 2013.

94. Cabot Oil & Gas Corporation, Pad ID: AckerC P1, ABR-201311004, Bridgewater Township, Susquehanna County, Pa.; Consumptive Use of Up to 4.250 mgd; Approval Date: November 13, 2013.

95. Range Resources—Appalachia, LLC, Pad ID: State Game Lands 075A—East Pad, ABR-201311005, Pine Township, Lycoming County, Pa.; Consumptive Use of Up to 5.000 mgd; Approval Date: November 13, 2013.

96. Talisman Energy USA Inc., Pad ID: Cease, ABR-20090506.R1, Troy Borough, Bradford County, Pa.; Consumptive Use of Up to 3.000 mgd; Approval Date: November 13, 2013.

97. Talisman Energy USA Inc., Pad ID: Shedden D 26/27, ABR-20090507.R1, Troy Borough, Bradford County, Pa.; Consumptive Use of Up to 3.000 mgd; Approval Date: November 13, 2013.

98. Talisman Energy USA Inc., Pad ID: Harris M, ABR-20090508.R1, Armenia Township, Bradford County, Pa.; Consumptive Use of Up to 3.000 mgd; Approval Date: November 13, 2013.

99. Talisman Energy USA Inc., Pad ID: Bense, ABR-20090509.R1, Troy Borough, Bradford County, Pa.; Consumptive Use of Up to 3.000 mgd; Approval Date: November 13, 2013.

100. Talisman Energy USA Inc., Pad ID: Phinney, ABR-20090510.R1, Troy Borough, Bradford County, Pa.; Consumptive Use of Up to 3.000 mgd; Approval Date: November 13, 2013.

101. Talisman Energy USA Inc., Pad ID: Knights, ABR-20090522.R1, Troy Borough, Bradford County, Pa.; Consumptive Use of Up to 3.000 mgd; Approval Date: November 13, 2013.

102. Talisman Energy USA Inc., Pad ID: Harris A, ABR-20090523.R1, Armenia Township, Bradford County, Pa.; Consumptive Use of Up to 3.000 mgd; Approval Date: November 13, 2013.

103. Talisman Energy USA Inc., Pad ID: Thomas F 38, ABR-20090524.R1, Troy Borough, Bradford County, Pa.; Consumptive Use of Up to 3.000 mgd; Approval Date: November 13, 2013.

104. Chesapeake Appalachia, LLC, Pad ID: BIM, ABR-201311006, Wilmot Township, Bradford County, Pa.; Consumptive Use of Up to 7.500 mgd; Approval Date: November 14, 2013.

105. Chief Oil & Gas LLC, Pad ID: Kupscznk B Drilling Pad, ABR-201311007, Springville Township, Susquehanna County, Pa.; Consumptive Use of Up to 2.000 mgd; Approval Date: November 19, 2013.

106. Inflection Energy LLC, Pad ID: Shaheen Well Site, ABR-201311008, Fairfield Township, Lycoming County, Pa.; Consumptive Use of Up to 4.000 mgd; Approval Date: November 19, 2013.

107. Cabot Oil & Gas Corporation, Pad ID: AndersonR P1, ABR-201311009, Auburn Township, Susquehanna County, Pa.; Consumptive Use of Up to 4.250 mgd; Approval Date: November 19, 2013.

108. Talisman Energy USA Inc., Pad ID: Shedden D 13-43, ABR-20090603.R1, Troy Borough, Bradford County, Pa.; Consumptive Use of Up to 3.000 mgd; Approval Date: November 19, 2013.

109. Talisman Energy USA Inc., Pad ID: Williams 41-42, ABR-20090611.R1, Troy Borough, Bradford County, Pa.; Consumptive Use of Up to 3.000 mgd; Approval Date: November 19, 2013.

110. Chief Oil & Gas LLC, Pad ID: Garrison West Drilling Pad, ABR-201311010, Lemon Township, Wyoming County, Pa.; Consumptive Use of Up to 2.000 mgd; Approval Date: November 25, 2013.

111. WPX Energy Appalachia, LLC, Pad ID: Holbrook # 1, ABR-20090402.R1, Bridgewater Township, Susquehanna County, Pa.; Consumptive Use of Up to 3.001 mgd; Approval Date: November 25, 2013.

112. WPX Energy Appalachia, LLC, Pad ID: Turner—1, ABR-20090403.R1, Liberty Township, Susquehanna County, Pa.; Consumptive Use of Up to 3.990 mgd; Approval Date: November 25, 2013.

113. WPX Energy Appalachia, LLC, Pad ID: Fiondi—1, ABR-20090404.R1, Middletown Township, Susquehanna County, Pa.; Consumptive Use of Up to 3.990 mgd; Approval Date: November 25, 2013.

114. Cabot Oil & Gas Corporation, Pad ID: Severcool B P1, ABR-20090536.R1, Dimock Township, Susquehanna County, Pa.; Consumptive Use of Up to 3.575 mgd; Approval Date: December 4, 2013.

115. Talisman Energy USA Inc., Pad ID: State Lands 587 Pad #1, ABR-20090609.R1, Ward Township, Tioga County, Pa.; Consumptive Use of Up to 3.000 mgd; Approval Date: December 4, 2013.

116. Chief Oil & Gas LLC, Pad ID: Harper Unit #1H, ABR-20090515.R1, West Burlington Township, Bradford County, Pa.; Consumptive Use of Up to 5.000 mgd; Approval Date: December 6, 2013.

117. Chief Oil & Gas LLC, Pad ID: Jennings Unit #1H, ABR-20090516.R1, West Burlington Township, Bradford County, Pa.; Consumptive Use of Up to 5.000 mgd; Approval Date: December 6, 2013.

118. Chief Oil & Gas LLC, Pad ID: Black Unit #1H, ABR-20090517.R1, Burlington Township, Bradford County, Pa.; Consumptive Use of Up to 5.000 mgd; Approval Date: December 6, 2013.

119. Cabot Oil & Gas Corporation, Pad ID: Greenwood P1, ABR-20090548.R1, Dimock Township, Susquehanna County, Pa.; Consumptive Use of Up to 3.575 mgd; Approval Date: December 6, 2013.

120. Southwestern Energy Production Company, Pad ID: NR-14-BRANT-PAD, ABR-201312001, Great Bend Township, Susquehanna County, Pa.; Consumptive Use of Up to 4.999 mgd; Approval Date: December 16, 2013.

121. Southwestern Energy Production Company, Pad ID: NR-11-DAYTON-PAD, ABR-201312002, Great Bend Township, Susquehanna County, Pa.; Consumptive Use of Up to 4.999 mgd; Approval Date: December 16, 2013.

122. Southwestern Energy Production Company, Pad ID: RU-40-BREESE-PAD, ABR-201312003, New Milford Township, Susquehanna County, Pa.; Consumptive Use of Up to 4.999 mgd; Approval Date: December 16, 2013.

123. Cabot Oil & Gas Corporation, Pad ID: Ely P1, ABR-20090546.R1, Dimock Township, Susquehanna County, Pa.; Consumptive Use of Up to 3.575 mgd; Approval Date: December 17, 2013.

124. Cabot Oil & Gas Corporation, Pad ID: Gesford P3, ABR-20090549.R1, Dimock Township, Susquehanna County, Pa.; Consumptive Use of Up to 3.575 mgd; Approval Date: December 17, 2013.

125. Cabot Oil & Gas Corporation, Pad ID: Gesford P4, ABR-20090550.R1, Dimock Township, Susquehanna County, Pa.; Consumptive Use of Up to 3.575 mgd; Approval Date: December 17, 2013.

126. Cabot Oil & Gas Corporation, Pad ID: Heitsman A P2, ABR-20090552.R1, Dimock Township, Susquehanna County, Pa.; Consumptive Use of Up to 3.575 mgd; Approval Date: December 17, 2013.

127. Cabot Oil & Gas Corporation, Pad ID: Smith P3, ABR-20090554.R1, Springville Township, Susquehanna County, Pa.; Consumptive Use of Up to 3.575 mgd; Approval Date: December 17, 2013.

128. Talisman Energy USA Inc., Pad ID: 07-087 Stickney A, ABR-201312004, Choconut Township, Susquehanna County, Pa.; Consumptive Use of Up to 6.000 mgd; Approval Date: December 20, 2013.

129. Cabot Oil & Gas Corporation, Pad ID: Lathrop P1, ABR-20090538.R1, Springville Township, Susquehanna County, Pa.; Consumptive Use of Up to 3.575 mgd; Approval Date: December 20, 2013.

130. Cabot Oil & Gas Corporation, Pad ID: Hubbard P1, ABR-20090545.R1, Dimock Township, Susquehanna County, Pa.; Consumptive Use of Up to 3.575 mgd; Approval Date: December 20, 2013.

131. Anadarko E&P Onshore LLC, Pad ID: C.O.P. Tract 653—1000 ABR-20090405.R1, Beech Creek Township, Clinton County, Pa.; Consumptive Use of Up to 5.000 mgd; Approval Date: December 24 2013.

132. Anadarko E&P Onshore LLC, Pad ID: C.O.P. Tract 285 (1000) ABR-20090408.R1, Grugan Township, Clinton County, Pa.; Consumptive Use of Up to 5.000 mgd; Approval Date: December 24, 2013.

133. Anadarko E&P Onshore LLC, Pad ID: COP Tract 289 (1000H & 1001H) ABR-20090410.R1, McHenry Township, Lycoming County, Pa.; Consumptive Use of Up to 5.000 mgd; Approval Date: December 24, 2013.

134. Anadarko E&P Onshore LLC, Pad ID: COP Tract 285 (1001H, 1002H) ABR-20090413.R1, Grugan Township, Clinton County, Pa.; Consumptive Use of Up to 5.000 mgd; Approval Date: December 24, 2013.

Authority: Pub. L. 91-575, 84 Stat. 1509 et seq., 18 CFR Parts 806, 807, and 808.

Dated: January 29, 2014.
Stephanie L. Richardson,
Secretary to the Commission.

[FR Doc. 2014-02635 Filed 2-6-14; 8:45 am]

BILLING CODE 7040-01-P